Title 3—

The President

Proclamation 8659 of April 29, 2011

Asian American and Pacific Islander Heritage Month, 2011

By the President of the United States of America

A Proclamation

This month, our Nation celebrates the contributions and accomplishments of Asian Americans and Pacific Islanders (AAPI). Our AAPI communities have roots that span the globe, but their stories of striving and success are uniquely American. As we celebrate Asian American and Pacific Islander Heritage Month, we recognize the entrepreneurship and fortitude of individuals who have helped build our country and shape the American dream for centuries.

Generations of Asian Americans and Pacific Islanders have helped develop and defend the United States, often in the face of tremendous racial and cultural prejudice. Despite these difficulties, AAPI men and women struggled, sacrificed, and persevered to build a better life for their children and all Americans.

Today, Asian Americans and Pacific Islanders have a profound impact on our society as leaders in all facets of American life, thriving as athletes and public servants, entrepreneurs and artists. Whether as small business owners or as proud members of the United States Armed Forces, Asian Americans and Pacific Islanders are helping to write the next chapter of the American story.

Although many Asian Americans and Pacific Islanders have achieved success, far too many still struggle to overcome obstacles of unemployment, poverty, and language barriers or face significant education, economic, and health disparities. To help address the diverse challenges affecting our AAPI communities, I reestablished the White House Initiative on Asian Americans and Pacific Islanders. The Initiative coordinates the efforts of agencies throughout the Federal Government to promote increased access to and participation in Federal programs for Asian Americans and Pacific Islanders who remain underserved, so we can continue to be a Nation where all things are possible for all people. All Americans can visit www.AAPI.gov to learn more about the important work of this Initiative.

From our earliest days, intrepid men and women from the Asia-Pacific region have forged enduring links between America and other nations as they moved across the Pacific. In today’s globalized world, these bonds remain critical, reminding the United States of our rich shared history and integrated future with the dynamic Asia-Pacific region. During Asian American and Pacific Islander Heritage Month, let us celebrate the millions of Asian Americans and Pacific Islanders whose talents and contributions strengthen our economy, protect our security, and enliven our country every day.

NOW, THEREFORE, I, BARACK OBAMA, President of the United States of America, by virtue of the authority vested in me by the Constitution and the laws of the United States, do hereby proclaim May 2011 as Asian American and Pacific Islander Heritage Month. I call upon all Americans to visit www.AsianPacificHeritage.gov to learn more about the history of Asian Americans and Pacific Islanders, and to observe this month with appropriate programs and activities.

IN WITNESS WHEREOF, I have hereunto set my hand this twenty-ninth day of April, in the year of our Lord two thousand eleven, and of the Independence of the United States of America the two hundred and thirty-fifth.

[FR Doc. 2011-11062

Filed 5-4-11; 8:45 am]

Billing code 3195-W1-P